Presidential Determination No. 2023-02 of October 14, 2022

Presidential Determination With Respect to the Efforts of Foreign Governments Regarding Trafficking in Persons

Memorandum for the Secretary of State

Consistent with section 110 of the Trafficking Victims Protection Act of 2000 (22 U.S.C. 7107) (the “Act”), as amended, I hereby determine as follows:

As provided for in section 110(d)(1)(A)(i) of the Act, that the United States will not provide nonhumanitarian, nontrade-related assistance to the Governments of Afghanistan, Burma, Guinea-Bissau, Iran, the People's Republic of China (PRC), and South Sudan for Fiscal Year (FY) 2023 until such governments comply with the Act's minimum standards or make significant efforts to bring themselves into compliance with the minimum standards;

As provided for in section 110(d)(1)(A)(ii) of the Act, that the United States will not provide nonhumanitarian, nontrade-related assistance to, or allow funding for participation in educational and cultural exchange programs by officials or employees of, the Governments of Belarus, Cuba, the Democratic People's Republic of Korea (DPRK), Eritrea, Macau (Special Administrative Region of the PRC), Nicaragua, Russia, and Syria for FY 2023 until such governments comply with the Act's minimum standards or make significant efforts to bring themselves into compliance with the minimum standards;

As provided for in section 110(d)(1)(B) of the Act, I hereby instruct the United States Executive Director of each multilateral development bank, as defined in the Act, and of the International Monetary Fund to vote against and use best efforts to deny any loan or other utilization of the funds of the respective institution (other than for humanitarian assistance; for trade-related assistance; or for development assistance that directly addresses basic human needs, is not administered by the government of such country, and confers no benefit to that government) for the Governments of Belarus, Burma, Cuba, the DPRK, Eritrea, Iran, Macau (Special Administrative Region of the PRC), Nicaragua, the PRC, Russia, South Sudan, and Syria for FY 2023 until such governments comply with the Act's minimum standards or make significant efforts to bring themselves into compliance with the minimum standards;

Consistent with section 110(d)(4) of the Act, I determine that the provision of all programs, projects, activities, and funding for educational and cultural exchange programs described in sections 110(d)(1)(A) and 110(d)(1)(B) of the Act to Brunei, Cambodia, Malaysia, Turkmenistan, Venezuela, and Vietnam, would promote the purposes of the Act or is otherwise in the national interest of the United States;

Consistent with section 110(d)(4) of the Act, I determine that providing the assistance described in section 110(d)(1)(B) of the Act to Afghanistan and Guinea-Bissau would promote the purposes of the Act or is otherwise in the national interest of the United States;

Consistent with section 110(d)(4) of the Act, I determine that a partial waiver with respect to Belarus, Eritrea, Macau (Special Administrative Region of the PRC), and Russia to allow funding for educational and cultural exchange programs described in section 110(d)(1)(A)(ii) of the Act would promote the purposes of the Act or is otherwise in the national interest of the United States;

Consistent with section 110(d)(4) of the Act, with respect to Afghanistan, I determine that a partial waiver of the restriction described in section 110(d)(1)(A)(i) of the Act to allow for Economic Support Fund (ESF) and Global Health Programs (GHP) assistance would promote the purposes of the Act or is otherwise in the national interest of the United States;

Consistent with section 110(d)(4) of the Act, with respect to Guinea-Bissau, I determine that a partial waiver of the restriction described in section 110(d)(1)(A)(i) of the Act to allow for International Military Education and Training (IMET); Nonproliferation, Anti-terrorism, Demining, and Related Programs-Conventional Weapons Destruction (NADR-CWD); Development Assistance (DA); ESF; and GHP assistance would promote the purposes of the Act or is otherwise in the national interest of the United States; and

Consistent with section 110(d)(4) of the Act, with respect to South Sudan, I determine that a partial waiver of the restriction described in section 110(d)(1)(A)(i) of the Act to allow for GHP assistance would promote the purposes of the Act or is otherwise in the national interest of the United States.

In addition, with respect to the Governments of Curacao and Sint Maarten, consistent with the United States Government's firm stand against human trafficking, and until such governments take steps consistent with compliance with the minimum standards of the Act or make significant efforts to do so, I hereby: (i) direct that executive departments and agencies shall not provide nonhumanitarian, nontrade-related foreign assistance, as described in section 110(d)(1)(A) of the Act, to the Governments of Curacao and Sint Maarten; (ii) instruct the United States Executive Director of each multilateral development bank, as defined in the Act, and of the International Monetary Fund to vote against and use best efforts to deny any loan or other utilization of the funds of the respective institution (other than for humanitarian assistance, for trade-related assistance, or for development assistance that directly addresses basic human needs, is not administered by such government, and confers no benefit to that government) to Curacao and Sint Maarten, as described in section 110(d)(1)(B) of the Act; and (iii) direct that funding for participation by officials or employees of the Governments of Curacao and Sint Maarten in educational and cultural exchange programs shall continue to be permitted in FY 2023, consistent with the foreign policy and all applicable laws of the United States.

You are authorized and directed to submit this determination, the certification required by section 110(e) of the Act, and the Memorandum of Justification, on which I have relied, to the Congress, and to publish this determination in the Federal Register.

THE WHITE HOUSE,

Washington, October 14, 2022

[FR Doc. 2022-23262

Filed 10-21-22; 11:15 am]

Billing code 4710-10-P